DEPARTMENT OF HOUSING AND URBAN DEVELOPMENT

[Docket No. FR-4560-C-05]

FY 2000 Super Notice of Funding Availability (SuperNOFA) for HUD's Housing, Community Development and Empowerment Programs and Section 8 Housing Voucher Assistance; Notice of Clarifications and Modifications of the Fair Housing Initiatives Program (FHIP) and Extension of Application Deadline for FHIP Initiatives

AGENCY: Office of the Assistant Secretary for Fair Housing and Equal Opportunity, HUD.

ACTION: Super Notice of Funding Availability (SuperNOFA) for HUD grant programs; notice of clarifications and modifications for the FHIP funding availability announcement.

SUMMARY: On February 24, 2000, HUD published its Fiscal Year (FY) 2000 Super Notice of Funding Availability (SuperNOFA) for HUD's Housing, Community Development, and Empowerment Programs and Section 8 Housing Voucher Assistance. This document makes certain modifications and clarifications to the FY 2000 funding availability announcement for the FHIP Program.

DATES: Except for the applications submitted under the Fair Housing Partnership Components for the Private Enforcement Initiative (EOI) and the Private Enforcement Initiative (PEI), the application due date for funding under FHIP is extended to June 2, 2000. The application due date for applications submitted under the Fair Housing Partnership Components of EOI and PEI is extended to June 30, 2000.

FOR FURTHER INFORMATION CONTACT: You may contact Lauretta Dixon, Director, FHIP-FHAP Support Division, Office of Programs, Office of Fair Housing and Equal Opportunity, Department of Housing and Urban Development, 451 Seventh Street, SW, Washington, DC, at (202) 708-0800 (this is not a toll free number). Persons with speech or hearing impairments may call the FHIP-FHAP Division by calling 1-800-290-1671, or 1-800-877-8399 (the Federal Information Relay Service TTY). Other than the “800” number, these numbers are not toll-free. You may also call the SuperNOFA Information Center, which you may reach by calling 1-800-HUD-8929 or the Center's TTY number at 1-800-HUD-2209.

SUPPLEMENTARY INFORMATION: On February 24, 2000 (65 FR 9322), HUD published its Fiscal Year (FY) 2000 Super Notice of Funding Availability (SuperNOFA) for HUD's Housing, Community Development, and Empowerment Programs and Section 8 Housing Voucher Assistance. The FY 2000 SuperNOFA announced the availability of approximately $2.424 billion in HUD program funds covering 39 grant categories within programs operated and administered by HUD offices and Section 8 housing voucher assistance.

This document makes certain modifications and clarifications to the FY 2000 funding availability announcement for the Fair Housing Initiatives Program (FHIP). The funding availability announcement for FHIP (FHIP NOFA) is found at page 9485 (65 FR 9485) of the February 24, 2000 SuperNOFA.

The modifications and clarifications made by this document do the following:

(1) Change the impact of the immigrant and other underserved populations provision with respect to the General Components of the Private Enforcement (PEI) and Education and Outreach (EOI) Initiatives by advising applicants that points will no longer be awarded under these two components for applicants that devote a portion of their activities and budget to the needs of these underserved populations;

(2) Revise the provision found in the Program Requirements Section (Part IV of the FHIP NOFA) so that an awardee will be required to reimburse the United States for FHIP funded enforcement activity when it receives compensation in a settlement or conciliation; however, the awardee will not be required to reimburse the United States when the compensation is awarded in a final judgment;

(3) Set forth technical and conforming language for errors identified in the FHIP NOFA; and

(4) Extend the application due date for applications submitted under the Fair Housing Partnership Components of EOI and PEI to June 30, 2000. For all other Initiatives/Components, the closing date for submitting applications is extended to June 2, 2000.

The corrections that follow are organized in the order of the above description of the four types of changes.

Accordingly, in the Super Notice of Funding Availability for Housing, Community Development, and Empowerment Programs and Section 8 Housing Voucher Assistance for Fiscal Year 2000, notice document 00-4123, beginning at 65 FR 9322, in the issue of Friday, February 24, 2000, the following clarifications and corrections are made to the FHIP NOFA, commencing at 9487:

1. The FHIP NOFA is modified in several places regarding the issue of immigrant and other underserved populations, as defined in the FHIP NOFA. This modification only affects applications submitted under the General Components of Private Enforcement Initiative (PEI) and Education and Outreach Initiative (EOI). Before this amendment, this provision was a rating provision, awarding up to five points to applicants that devote a portion of their activities and budget to the fair housing needs of these populations. This amendment makes this provision a tie-breaking provision. When applicants receive the same overall score, the one that describes/lists the outreach the applicant will engage in to make these populations aware of its services/activities will be ranked higher than those that do not. As a result of this amendment, applicants under the General Components of PEI and EOI need not devote a portion of their activities and budget to address the needs of immigrant and other underserved populations, as defined in the FHIP NOFA. Several portions of the FHIP NOFA are affected as follows:

On page 9488, first column, in first paragraph that continues from page 9487, remove the sentence beginning with “Points will be awarded” and ending with “other underserved populations” and substitute the following language:

As described in Part V, Application Selection Process, in a tie-breaking situation, applications submitted under the General Components of the Private Enforcement Initiative (PEI) and the Education and Outreach Initiative (EOI) which describe/list specific examples of the outreach which will be engaged in to advise immigrant (especially ethnic minorities that are not English-speaking) and other underserved populations, as defined in the NOFA, of the services offered by the project will be ranked higher than applications which do not. Merely asserting you will engage in/conduct outreach to these populations is not sufficient. However, whether you describe/list 1 or 101 specific examples is of no consequence since, for the purpose of breaking the tie, all that will be considered is whether, “yes you have” or “no you have not” described/listed specific examples of the outreach you will engage in to inform these populations of the services offered by the project.

On page 9488, first column, in the first paragraph that continues from page 9487, the sentence that begins, “Applicants under the Community Tensions Component” becomes a new paragraph and to this new paragraph the following language is added:

For those of you applying under the Establishing New Organizations Component of FHOI, HUD has identified and targeted for funding two groups whose fair housing needs have been underserved. They are (1) persons in rural areas, as defined in Section IV(A)(16), and (2) immigrants (especially ethnic minorities that are not English-speaking). The Department hopes to establish three new organizations with two of the awards (or one each) being awarded to applicants addressing the needs of these groups.

On page 9489, first column, under paragraph (2)(b) Eligible Activities, remove the second sentence which begins “Points will be awarded” and all that follows in that paragraph.

On page 9489, third column, under paragraph (2)(b) Eligible Activities, remove the last sentence which begins “Points will be awarded * * * ”.

On page 9495, second column, paragraph (B)(3) on Tie Breaking, the first paragraph becomes the second paragraph and the following becomes the first paragraph.

For applications submitted under the General Components of EOI and PEI, only. When there is a tie in the overall score, the applicant who describes/lists specific examples of the outreach which will be engaged in to advise immigrant (especially ethnic minorities that are not English-speaking) and other underserved populations, as defined in Section IV(A)(16), of the services offered by the project will be ranked higher than applicants that do not. Merely asserting you will engage in/conduct outreach to these populations is not sufficient. However, whether you describe/list 1 or 101 specific examples is of no consequence since, for the purpose of breaking the tie, all that will be considered is whether, “yes you have” or “no you have not” described/listed specific examples of the outreach you will engage in to inform these populations of the services offered by the project. If some or all of the applicants have described/listed specific examples of outreach to these populations and a tie continues to exist, then the applications will be ranked in accordance with the next paragraph.

On page 9495, second column, the first paragraph of paragraph (B)(3), which is now the second paragraph as provided above, is amended by inserting the following phrase at the start of the new second paragraph—For All Initiatives/Components.

On page 9497, under “Rating Factor 3: Soundness of Approach,” the following changes are made:

First column: Remove the last paragraph which begins “Points will be awarded” and ends at the top of the middle column on this same page.

Middle column: remove the first two lines of the italicized paragraph which begins, “For all Components,” through the words “PEI and EOI” and capitalize the word “Your” and retain the remainder of the italicized paragraph.

Middle column, remove all of the second italicized language which begins “For the General Components of PEI and EOI” through all of the italicized language that is found in the third column, preceding the paragraph designated as paragraph “(2)” in the third column.

2. HUD's FY 1999 FHIP NOFA was amended to require awardees who received FHIP funding to reimburse the United States when they have received compensation for FHIP-funded activities. That requirement is also in the FY 2000 NOFA. The purpose of this change is to modify that provision so that the requirement applies to compensation received from a conciliation or settlement, but not from a final judgment in litigation. The provision is amended as follows:

On page 9494, first column, in the paragraph designated as “(7)(b)” insert before the word “When” which begins the first sentence, the following phrase—“In a conciliation, or settlement”.

On page 9494, first column, in the paragraph designated as “(7)(b)” at the end of paragraph (7)(b), insert the following as the last sentence of the paragraph:

This reimbursement requirement does not apply to compensation received after a judgment in state or Federal court.

3. The following are technical and conforming language changes:

On page 9491, middle column, in the paragraph designated as “(2)(b)” in the second line, after the phrase “immigrant groups” remove the phrase “that are non-English-speaking” and insert the following in its place: “(especially ethnic minorities who are not English-speaking).”

On page 9494, third column, under Part V, Section (F), remove the word “Initiatives” from the title of Section F and insert “Components”.

On page 9495, middle column, the paragraph designated as “(3)” is redesignated as paragraph “(C).”

On page 9495, third column, the paragraph designated as “(C)” on “Selections” is redesignated as paragraph “(D).”

On Page 9496, first column, the paragraph designated as “(D)” on “Priority for Shifting Remaining Funds” is redesignated as paragraph “(E).”

On page 9496, middle column, the paragraph designated as “(E)” on “Factors for Award” is redesignated as paragraph “(E)”.

On page 9508, which contains the “Cover Page FY 2000 FHIP Application,” the last sentence of the paragraph in the middle of the page is removed and the following is inserted:

Failure to submit your preference at the time of application will be treated as a technical deficiency, which may be corrected as noted in Section V of the General Section of the SuperNOFA.

4. The due date for applications submitted under the Fair Housing Partnership Components of the Education and Outreach and Private Enforcement Initiatives is extended to June 30, 2000. For all other Initiatives/Components, the application due date is extended to June 2, 2000.

On page 9487, first column, under “Program Overview” and following the heading “Application Deadline,” the date “May 16, 2000” is removed, and the following is inserted:

Application Deadline. For all Initiatives/Components, except the Fair Housing Partnership Components of the Education and Outreach Initiative (EOI) and the Private Enforcement Initiative (PEI), June 2, 2000. For the EOI and PEI Fair Housing Partnership Components, June 30, 2000.

On page 9487, first column, in Section I, under the heading “Application Due Date” the first paragraph is revised to read as follows:

For all Initiatives/Components, except the Fair Housing Partnership Components of the Education and Outreach Initiative (EOI) and the Private Enforcement Initiative (PEI), you must submit completed applications to HUD Headquarters, at the address shown below, on or before 12:00 midnight, Eastern time, on June 2, 2000. For applications submitted under the EOI and PEI Fair Housing Partnership Components, you must submit completed applications to HUD Headquarters, at the address shown below, on or before 12:00 midnight, Eastern time, on June 30, 2000.

Dated: April 27, 2000.
Eva M. Plaza,
Assistant Secretary for Fair Housing and Equal Opportunity.

[FR Doc. 00-11088 Filed 5-1-00; 11:22 am]

BILLING CODE 4210-28-P